DEPARTMENT OF ENERGY

Federal Energy Regulatory Commission

Combined Notice of Filings #1

Take notice that the Commission received the following exempt wholesale generator filings:

Docket Numbers: EG18-6-000.

Applicants: PowerFin ASL 1, LLC.

Description: Notice of Self-Certification of Exempt Wholesale Generator Status of PowerFin ASL 1, LLC.

Filed Date: 10/11/17.

Accession Number: 20171011-5088.

Comments Due: 5 p.m. ET 11/1/17.

Docket Numbers: EG18-7-000.

Applicants: PowerFin SolarMundo, LLC.

Description: Notice of Self-Certification of Exempt Wholesale Generator Status of PowerFin SolarMundo, LLC.

Filed Date: 10/11/17.

Accession Number: 20171011-5089.

Comments Due: 5 p.m. ET 11/1/17.

Take notice that the Commission received the following electric rate filings:

Docket Numbers: ER10-2398-006; ER10-2399-006; ER14-1933-006; ER10-2406-007; ER10-2409-006; ER10-2410-006; ER10-2411-007; ER10-2412-007; ER17-1315-003; ER10-2414-007; ER11-2935- 008; ER16-1724-003; ER13-1816-007.

Applicants: Blackstone Wind Farm, LLC, Blackstone Wind Farm II LLC, Headwaters Wind Farm LLC, High Trail Wind Farm, LLC, Meadow Lake Wind Farm LLC, Meadow Lake Wind Farm II LLC, Meadow Lake Wind Farm III LLC, Meadow Lake Wind Farm IV LLC, Meadow Lake Wind Farm V LLC, Old Trail Wind Farm, LLC, Paulding Wind Farm II LLC, Paulding Wind Farm III LLC, Sustaining Power Solutions LLC.

Description: Notice of Non-Material Change in Status of Blackstone Wind Farm, LLC, et. al.

Filed Date: 10/10/17.

Accession Number: 20171010-5383.

Comments Due: 5 p.m. ET 10/31/17.

Docket Numbers: ER10-3246-008; ER10-2475-013; ER10-2474-013; ER13-1266-008.

Applicants: PacifiCorp, Nevada Power Company, Sierra Pacific Power Company, CalEnergy, LLC.

Description: Errata to June 30, 2016 Triennial Market Power Analysis and Supplement for the Northwest Region of the BHE Northwest Companies.

Filed Date: 10/6/17.

Accession Number: 20171006-5119.

Comments Due: 5 p.m. ET 10/27/17.

Docket Numbers: ER17-2179-001.

Applicants: California Independent System Operator Corporation.

Description: Compliance filing: 2017-10-10 Remove Conceptual Statewide Plan Compliance to be effective 9/27/2017.

Filed Date: 10/10/17.

Accession Number: 20171010-5344.

Comments Due: 5 p.m. ET 10/31/17.

Docket Numbers: ER17-2379-001.

Applicants: Arizona Public Service Company.

Description: Tariff Amendment: Administrative Filing Amendment for ER17-2379-000 to be effective 8/30/2017.

Filed Date: 10/11/17.

Accession Number: 20171011-5170.

Comments Due: 5 p.m. ET 11/1/17.

Docket Numbers: ER18-49-000.

Applicants: Arizona Public Service Company.

Description: § 205(d) Rate Filing: Service Agreement Recollation to be effective 10/10/2017.

Filed Date: 10/10/17.

Accession Number: 20171010-5250.

Comments Due: 5 p.m. ET 10/31/17.

Docket Numbers: ER18-50-000.

Applicants: Arizona Public Service Company.

Description: § 205(d) Rate Filing: Administrative Filing Amendment for ER17-2379-000 to be effective 8/30/2017.

Filed Date: 10/10/17.

Accession Number: 20171010-5265.

Comments Due: 5 p.m. ET 10/31/17.

Docket Numbers: ER18-51-000.

Applicants: PJM Interconnection, L.L.C.

Description: § 205(d) Rate Filing: Interconnection Service Agreement No. 3808, Queue No. AB2-050 to be effective 9/7/2017.

Filed Date: 10/10/17.

Accession Number: 20171010-5285.

Comments Due: 5 p.m. ET 10/31/17.

Docket Numbers: ER18-52-000.

Applicants: PJM Interconnection, L.L.C.

Description: § 205(d) Rate Filing: Original Service Agreement No. 4795; Queue AC2-139 (WMPA) to be effective 9/8/2017.

Filed Date: 10/10/17.

Accession Number: 20171010-5291.

Comments Due: 5 p.m. ET 10/31/17.

Docket Numbers: ER18-54-000.

Applicants: Pacific Gas and Electric Company.

Description: § 205(d) Rate Filing: Balancing Accounts Update 2018 (TRBAA, RSBAA, ECRBAA) to be effective 1/1/2018.

Filed Date: 10/10/17.

Accession Number: 20171010-5332.

Comments Due: 5 p.m. ET 10/31/17.

Docket Numbers: ER18-55-000.

Applicants: MP2 Energy LLC.

Description: § 205(d) Rate Filing: Notice of Change in Category Seller Status to be effective 10/12/2017.

Filed Date: 10/11/17.

Accession Number: 20171011-5083.

Comments Due: 5 p.m. ET 11/1/17.

Docket Numbers: ER18-56-000.

Applicants: Midcontinent Independent System Operator, Inc., Consumers Energy Company.

Description: § 205(d) Rate Filing: 2017-10-11 Consumers Energy Company's Transmission Depreciation Rates Filing to be effective 1/1/2018.

Filed Date: 10/11/17.

Accession Number: 20171011-5087.

Comments Due: 5 p.m. ET 11/1/17.

Docket Numbers: ER18-57-000.

Applicants: MP2 Energy NE LLC.

Description: § 205(d) Rate Filing: Notice in Change in Category Seller to be effective 10/12/2017.

Filed Date: 10/11/17.

Accession Number: 20171011-5091.

Comments Due: 5 p.m. ET 11/1/17.

Docket Numbers: ER18-58-000.

Applicants: Dyon LLC.

Description: Tariff Cancellation: Notice of Cancellation to be effective10/12/2017.

Filed Date: 10/11/17.

Accession Number: 20171011-5148.

Comments Due: 5 p.m. ET 11/1/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 11, 2017.
Nathaniel J. Davis, Sr.,
Deputy Secretary.

[FR Doc. 2017-22460 Filed 10-16-17; 8:45 am]

BILLING CODE 6717-01-P